DEPARTMENT OF COMMERCE

International Trade Administration

[A-570-875]

Non-Malleable Cast Iron Pipe Fittings From the People's Republic of China: Initiation and Preliminary Results of Changed Circumstances Review, and Intent To Revoke Order in Part

AGENCY: Import Administration, International Trade Administration, Department of Commerce.

DATES: Effective Date: April 16, 2012.

SUMMARY: In accordance with section 751(b) of the Tariff Act of 1930, as amended (the Act), and 19 CFR 351.216(b), Ford Motor Company (Ford) filed a request for a changed circumstances review of the antidumping duty (AD) order on non-malleable cast iron pipe fittings from the People's Republic of China (PRC) so that the order can be revoked with respect to a particular brake fluid tube connector (connector). The domestic industry has affirmatively expressed a lack of interest in the continuation of the order with respect to this product. In response to the request, the Department is initiating a changed circumstances review and issuing a notice of preliminary intent to revoke, in part, this order. Interested parties are invited to comment on these preliminary results.

FOR FURTHER INFORMATION CONTACT: Zev Primor or Robert Bolling, Import Administration, International Trade Administration, U.S. Department of Commerce, 14th Street and Constitution Avenue NW., Washington DC 20230; telephone (202) 482-4114 and (202) 482-3434, respectively.

Background

On April 7, 2003, the Department published an AD order on non-malleable cast iron pipe fittings from the PRC.¹ On March 6, 2012, Ford requested revocation in part of the AD order pursuant to sections 751(b)(1) and 782(h) of the Act, with respect to Ford's connector. The connector is a “joint block” for brake fluid tubes and is made of non-malleable cast iron to Society of Automotive Engineers (SEA) automotive standard J431. The tubes have an inside diameter of 3.44 millimeters (0.1355 inches) and the inside diameters of the fluid flow channels of the connector are 3.2 millimeters (0.1260 inches) and 3.8 millimeters (0.1496 inches). The end of the tube is forced by pressure over the end of a flared opening in the connector also known as “flared joint.” The flared joint, once made fast, permits brake fluid to flow through channels that never exceed 3.8 millimeters (0.1496 inches) in diameter.

¹ See Notice of Antidumping Duty Order: Non-Malleable Cast Iron Pipe Fittings From the People's Republic of China, 68 FR 16765 (April 7, 2003).

Scope of the Order

The products covered by the order are finished and unfinished non-malleable cast iron pipe fittings with an inside diameter ranging from ¼ inch to 6 inches, whether threaded or unthreaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.16.4 specifications and are threaded to ASME B1.20.1 specifications. Most building codes require that these products are Underwriters Laboratories (UL) certified. The scope does not include cast iron soil pipe fittings or grooved fittings or grooved couplings.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of the order. These ductile fittings do not include grooved fittings or grooved couplings. Ductile cast iron fittings with mechanical joint ends (MJ), or push on ends (PO), or flanged ends and produced to the American Water Works Association (AWWA) specifications AWWA C110 or AWWA C153 are not included.

Imports of subject merchandise are currently classifiable in the Harmonized Tariff Schedule of the United States (HTSUS) under item numbers 7307.11.00.30, 7307.11.00.60, 7307.19.30.60, 7307.19.30.85. HTSUS subheadings are provided for convenience and customs purposes. The written description of the scope of the order is dispositive.²

² On April 21, 2009, in consultation with the U.S. Customs and Border Protection (CBP), the Department added the following HTSUS classification to the AD/CVD module for pipe fittings: 7326.90.8588. See Memorandum from Abdelali Elouaradia, Office Director, Import Administration, Office 4 to Stephen Claeys, Deputy Assistant Secretary, Import Administration regarding the Final Scope Ruling on Black Cast Iron Cast, Green Ductile Flange and Twin Tee, antidumping duty order on non-malleable iron cast pipe fittings from the PRC, dated September 19, 2008. See also Memorandum to the file from Karine Gziryan, Financial Analyst, Office 4, regarding Module Update adding HTSUS number for twin tin fitting included in the scope of antidumping order on non-malleable iron cast pipe fittings from the PRC, dated April 22, 2009.

Initiation and Preliminary Results of Changed Circumstances Review, and Intent To Revoke Order in Part

At the request of Ford, and in accordance with sections 751(d)(1) and 751(b)(1) of the Act and 19 CFR 351.216, the Department is initiating a changed circumstances review of non-malleable cast iron pipe fittings from the PRC to determine whether partial revocation of the AD order is warranted with respect to the connector, as described above. Section 782(h)(2) of the Act and 19 CFR 351.222(g)(1)(i) provide that the Department may revoke an order (in whole or in part) if it determines that producers accounting for substantially all of the production of the domestic like product have no further interest in the order, in whole or in part. In addition, in the event the Department determines that expedited action is warranted, 19 CFR 351.221(c)(3)(ii) permits the Department to combine the notices of initiation and preliminary results.

On February 28, 2012, Anvil International and Ward Manufacturing, petitioners in the original investigation, submitted a statement indicating that they account for approximately 95 percent of the domestic production of the like product. Further, Petitioners stated that they have no interest in producing the auto part described in the Ford's changed circumstances request and agree to the exclusion of the above-described connector from the scope of the AD duty order.³

³ See Petitioners' submission dated February 28, 2012.

In accordance with section 751(b) of the Act, and 19 CFR 351.222(g)(l)(i) and 351.221(c)(3), we are initiating this changed circumstances review and have determined that expedited action is warranted. In accordance with 19 CFR 351.222(g), we find that Petitioners' affirmative statement of no interest constitutes good cause for the conduct of this review. Additionally, our decision to expedite this review stems from the domestic industry's lack of interest in applying the AD order to the connector, described above, and covered by this request.

Based on the expression of no interest by Petitioners and absent any objection by other domestic interested parties, we preliminarily determine that substantially all of the domestic producers of the like product have no interest in the continued application of the AD order on non-malleable cast iron pipe fittings from the PRC to the merchandise that is subject to this request. Therefore, we are notifying the public of our intent to revoke, in part, the AD order as it relates to imports of the connector, as described above, from the PRC. We intend to modify the scope of the AD order to read as follows:

Specifically excluded from the scope of the order is a certain brake fluid tube connector. The brake fluid tube connector is a “joint block” for brake fluid tubes and is made of non-malleable cast iron to SEA automotive standard J431. The inside diameters of the fluid flow channels of the connector are 3.2 millimeters (0.1260 inches) and 3.8 millimeters (0.1496 inches).

Public Comment

Interested parties are invited to comment on these preliminary results. Written comments may be submitted no later than 14 days after the date of publication of these preliminary results. Rebuttals to written comments, limited to issues raised in such comments, may be filed no later than 21 days after the date of publication. The Department will issue the final results of this changed circumstances review, which will include the results of its analysis raised in any such written comments, no later than 270 days after the date on which this review was initiated, or within 45 days if all parties agree to our preliminary results.⁴

⁴ See 19 CFR 351.216(e).

If final revocation occurs, we will instruct CBP to end the suspension of liquidation for the merchandise covered by the revocation on the effective date of the notice of revocation and to release any cash deposit or bond.⁵ The current requirement for a cash deposit of estimated AD duties on all subject merchandise will continue unless and until it is modified pursuant to the final results of this changed circumstances review.

⁵ See 19 CFR 351.222(g)(4).

This initiation and preliminary results of review and notice are in accordance with section 751(b) of the Act and 19 CFR 351.216, 351.221, and 351.222.

Dated: April 10, 2012.
Paul Piquado,
Assistant Secretary for Import Administration.

[FR Doc. 2012-9079 Filed 4-13-12; 8:45 am]

BILLING CODE 3510-DS-P